DEPARTMENT OF COMMERCE

Foreign-Trade Zones Board

[B-4-2014]

Foreign-Trade Zone 221—Mesa, Arizona, Authorization of Production Activity, Apple Inc./GT Advanced Technologies Inc., (Components for Consumer Electronics), Mesa, Arizona

On January 23, 2014, Apple Inc./GT Advanced Technologies Inc. submitted a notification of proposed production activity to the Foreign-Trade Zones (FTZ) Board for its facility within Subzone 221A, in Mesa, Arizona.

The notification was processed in accordance with the regulations of the FTZ Board (15 CFR part 400), including notice in the Federal Register inviting public comment (79 FR 4661, 1-29-2014). The FTZ Board has determined that no further review of the activity is warranted at this time. The production activity described in the notification is authorized, subject to the FTZ Act and the Board's regulations, including Section 400.14.

Dated: May 28, 2014.
Andrew McGilvray,
Executive Secretary.

[FR Doc. 2014-12727 Filed 5-30-14; 8:45 am]

BILLING CODE 3510-DS-P